DEPARTMENT OF THE TREASURY

Internal Revenue Service

26 CFR Parts 1, 54, and 602

[TD 8987]

RIN 1545-AY69, 1545-AY70

Required Distributions From Retirement Plans; Correction

AGENCY: Internal Revenue Service (IRS), Treasury.

ACTION: Correction to final and temporary regulations.

SUMMARY: This document contains corrections to final and temporary regulations that were published in the Federal Register on Wednesday, April 17, 2002 (67 FR 18988) relating to the required minimum distributions from qualified plans, individual retirement plans, deferred compensation plans under section 457, and section 403(b) annuity contracts, custodial accounts, and retirement income accounts.

DATES: This correction is effective January 1, 2003.

FOR FURTHER INFORMATION CONTACT: Cathy A. Vohs, (202) 622-6090 (not a toll-free number).

SUPPLEMENTARY INFORMATION:

Background

The final and temporary regulations that are the subject of these corrections are under sections 401, 403, 408, 457, and 4974 of the Internal Revenue Code.

Need for Correction

As published, the final and temporary regulations contain errors that may prove to be misleading and are in need of clarification.

Correction of Publication

Accordingly, the publication of the final and temporary regulations (TD 8987), that were the subject of FR Doc. 02-8963, are corrected as follows:

1. On page 18991, column 2, in the preamble under the paragraph heading “Temporary Rules for Defined Benefit Plans and Annuity Contracts”, first paragraph, line 2 from the bottom, the language “assets has been replaced with this more” is corrected to read “assets have been replaced with this more”.

§ 54.4974-2 [Corrected]

2. On page 19028, column 1, § 54.4974-2(b)(4), line 19, the language “the calendar in which the employee” is corrected to read “the calendar year in which the employee”.

Cynthia E. Grigsby,
Chief, Regulations Unit, Associate Chief Counsel, (Income Tax and Accounting).

[FR Doc. 02-12720 Filed 5-20-02; 8:45 am]

BILLING CODE 4830-01-P